DEPARTMENT OF LABOR

Employment and Training Administration

[TA-W-61,134]

National Textiles (Sara Lee), Winston-Salem, NC; Notice of Termination of Investigation

Pursuant to Section 221 of the Trade Act of 1974, as amended, an investigation was initiated on March 19, 2007, in response to a petition filed by on behalf of workers of National Textiles, Sara Lee, Winston-Salem, North Carolina.

The petitioning group of workers is covered by an amended certification for workers of Hanes Brands Inc., formerly National Textiles, formerly Sara Lee Branded Apparel, Division Office, Winston-Salem, North Carolina (TA-W-57,802), which expires on September 28, 2007. Consequently, further investigation in this case would serve no purpose, and the investigation has been terminated.

Signed at Washington, DC, this 4th day of April, 2007.
Linda G. Poole,
Certifying Officer, Division of Trade Adjustment Assistance.

[FR Doc. E7-7100 Filed 4-13-07; 8:45 am]

BILLING CODE 4510-FN-P